DEPARTMENT OF AGRICULTURE

Animal and Plant Health Inspection Service

7 CFR Part 301

[Docket No. 00-076-2]

Imported Fire Ant; Addition to Quarantined Areas

AGENCY: Animal and Plant Health Inspection Service, USDA.

ACTION: Affirmation of interim rule as final rule.

SUMMARY: We are adopting as a final rule, without change, an interim rule that amended the imported fire ant regulations by adding additional areas in Tennessee to the list of quarantined areas. As a result of that action, the interstate movement of regulated articles from those areas is restricted. The interim rule was necessary to prevent the artificial spread of the imported fire ant to noninfested areas of the United States. In the interim rule, we also made nonsubstantive changes to the descriptions of some of the quarantined areas in Tennessee to make them easier to understand.

EFFECTIVE DATE: The interim rule became effective on November 6, 2000.

FOR FURTHER INFORMATION CONTACT: Mr. Ronald Milberg, Operations Officer, PPQ, APHIS, 4700 River Road Unit 36, Riverdale, MD 20737-1231; (301) 734-5255.

SUPPLEMENTARY INFORMATION:

Background

In an interim rule effective and published in the Federal Register on November 6, 2000 (65 FR 66487-66489, Docket No. 00-076-1), we amended the imported fire ant regulations in 7 CFR 301.81-3(e) by adding portions of Maury and Sequatchie Counties, TN, to the list of quarantined areas; changing the status of Lewis County, TN, from partially to completely infested; and by revising the quarantine boundaries in Giles, Lincoln, and Monroe Counties, TN, to incorporate additional infested areas. In the interim rule, we also made nonsubstantive changes to the descriptions of some of the quarantined areas in Tennessee to make them easier to understand.

Comments on the interim rule were required to be received on or before January 5, 2001. We did not receive any comments. Therefore, for the reasons given in the interim rule, we are adopting the interim rule as a final rule.

This action also affirms the information contained in the interim rule concerning Executive Order 12866 and the Regulatory Flexibility Act, Executive Orders 12372 and 12988, and the Paperwork Reduction Act.

Further, for this action, the Office of Management and Budget has waived the review process required by Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 65 FR 66487-66489 on November 6, 2000.

Authority: Title IV, Pub. L. 106-224, 114 Stat. 438, 7 U.S.C. 7701-7772; 7 U.S.C. 166; 7 CFR 2.22, 2.80, and 371.3.

Done in Washington, DC, this 16th day of April 2001.
Bobby R. Acord,
Acting Administrator, Animal and Plant Health Inspection Service.

[FR Doc. 01-9793 Filed 4-19-01; 8:45 am]

BILLING CODE 3410-34-U